DEPARTMENT OF TRANSPORTATION

Federal Motor Carrier Safety Administration

49 CFR Part 391

[Docket No. FMCSA-2019-0049]

RIN 2126-AC21

Qualifications of Drivers; Vision Standard; Correction

AGENCY: Federal Motor Carrier Safety Administration (FMCSA), Department of Transportation (DOT).

ACTION: Final rule; correction.

SUMMARY: In a final rule published in the Federal Register on January 21, 2022, FMCSA amended its regulations to permit individuals who do not satisfy, with the worse eye, either the existing distant visual acuity standard with corrective lenses or the field of vision standard, or both, to be physically qualified to operate a commercial motor vehicle in interstate commerce under specified conditions. The document included an incorrect date for grandfathered drivers who participated in a vision waiver study program to come into compliance with the provisions in the final rule.

DATES: This correction is effective March 22, 2022.

FOR FURTHER INFORMATION CONTACT: Ms. Christine A. Hydock, Chief, Medical Programs Division, FMCSA, 1200 New Jersey Avenue SE, Washington, DC 20590-0001, (202) 366-4001, fmcsamedical@dot.gov.

SUPPLEMENTARY INFORMATION: In FR Doc. 2022-01021 appearing on page 3419 in the Federal Register of January 21, 2022 (87 FR 3390), the following corrections are made:

§ 391.64 [Corrected]

On page 3419, in the third column, in § 391.64, in paragraph (b) introductory text and paragraph (b)(4), “March 22, 2022” is corrected to read “March 22, 2023”.

Issued under authority delegated in 49 CFR 1.87.

Larry W. Minor,
Associate Administrator for Policy.

[FR Doc. 2022-02758 Filed 2-9-22; 8:45 am]

BILLING CODE 4910-EX-P